DEPARTMENT OF TRANSPORTATION

National Highway Traffic Safety Administration

[Docket No. NHTSA-2025-0026; Notice 1]

Notice of Receipt of Petition for Decision That Nonconforming Model Year 2015 Ferrari LaFerrari Passenger Cars are Eligible for Importation

AGENCY: National Highway Traffic Safety Administration, Department of Transportation (DOT).

ACTION: Receipt of petition.

SUMMARY: This document announces the National Highway Traffic Safety Administration's (NHTSA) receipt of a petition for a decision that model year (MY) 2015 Ferrari LaFerrari (also known as the Ferrari F150) passenger cars (PCs) manufactured for sale in Europe or for sale in Mexico that were not originally manufactured to comply with all applicable Federal motor vehicle safety standards (FMVSSs) are eligible for importation into the United States (U.S.) because the vehicles are substantially similar to vehicles that were originally manufactured for sale in the U.S. and that were certified by their manufacturer as complying with the safety standards (the U.S.-certified version of the MY 2015 Ferrari LaFerrari PCs) and are capable of being readily modified to conform to the standards. This petition provides a sample vehicle, a MY 2015 Ferrari LaFerrari (VIN: ZFF76ZFL7F0xxxxxx), which is claimed to have been originally manufactured for sale in Mexico. J.K. Technologies seeks a determination for the petitioned vehicles.

DATES: The closing date for comments on the petition is August 20, 2025.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard along with the comments. Note that all comments received will be posted without change to https://www.regulations.gov, including any personal information provided.

All comments and supporting materials received before the close of business on the closing date indicated above will be filed in the docket and will be considered. All comments and supporting materials received after the closing date will also be filed and will be considered to the full extent possible.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register (FR) notice published on April 11, 2000, (65 FR 19477-78).

FOR FURTHER INFORMATION CONTACT: Jisan Xue, Office of Vehicle Safety Compliance, NHTSA (202-366-2365).

SUPPLEMENTARY INFORMATION:

Background

Under 49 U.S.C. 30141(a)(1)(A), a motor vehicle that was not originally manufactured to conform to all applicable FMVSS shall be refused admission into the U.S. unless NHTSA has decided that the motor vehicle is substantially similar to a motor vehicle originally manufactured for importation into and sale in the U.S., certified under 49 U.S.C. 30115, and of the same MY as the model of the motor vehicle it is being compared to, and is capable of being readily altered to conform to all applicable FMVSSs.

Petitions for eligibility decisions may be submitted by either manufacturers or importers who have registered with NHTSA pursuant to 49 CFR part 592. As specified in 49 CFR 593.7, NHTSA publishes notice of each petition that it receives in the Federal Register and affords interested persons an opportunity to comment on the petition. At the close of the comment period, NHTSA decides, on the basis of the petition and any comments that it has received, whether the vehicle is eligible for importation. The agency then publishes this decision in the Federal Register.

J.K. Technologies, LLC (the petitioner), Registered Importer R-90-006, of Baltimore, Maryland, has petitioned NHTSA to decide whether nonconforming MY 2015 Ferrari LaFerrari PCs are eligible for importation into the United States. J.K. Technologies in this petition provides a sample vehicle, a MY 2015 Ferrari LaFerrari (VIN: ZFF76ZFL7F0xxxxxx), which is claimed to have been originally manufactured for sale in Mexico. J.K. Technologies seeks a determination for the petitioned vehicles. The petitioner believes that the MY 2015 Ferrari LaFerrari PCs sold in the U.S. and certified by their manufacturer as conforming to all applicable FMVSSs are substantially similar to the petitioned vehicles. In addition, the petitioner believes that the petitioned vehicles are identical to the MY 2014 Ferrari LaFerrari PCs which are already on the list of eligible vehicles, and that they use the same exact parts lists previously submitted and approved by NHTSA.

The petitioner claims that it compared the non-U.S. certified MY 2015 Ferrari LaFerrari vehicle to its U.S. certified counterparts and found the vehicle to be substantially similar as it relates to compliance with most FMVSSs.

The petitioner submitted information with its petition intended to demonstrate that non-U.S. certified MY 2015 Ferrari LaFerrari PCs from Europe or Mexico conform to many applicable FMVSSs in the same manner as their U.S.-certified counterparts or are capable of being readily altered to conform to those standards. The petitioner asserts that many of the concerned parts have the same part numbers as their U.S.-certified counterparts, and that any areas requiring modification will use parts supplied by the original equipment manufacturer (OEM). J.K. Technologies stated that the modifications to the petition vehicles do not concern the basic structure, and only involve the substitution of removable and available parts. Specifically, the petitioner claims that the non-U.S. certified MY 2015 Ferrari LaFerrari PC vehicles:

(1) Originally manufactured for sale in Europe;

(i) Conform to the following FMVSSs: FMVSS Nos. 102, Transmission Shift Position Sequence, Starter Interlock, and Transmission Braking Effect, 103, Windshield Defrosting and Defogging Systems, 104, Windshield Wiping and Washing Systems, 106, Brake Hoses, 113, Hood Latch System, 114, Theft Protection and Rollaway Prevention, 116, Motor Vehicle Brake Fluids, 118, Power-Operated Window, Partition, and Roof Panel System, 124, Accelerator Control Systems, 126, Electronic Stability Control Systems, 135, Light Vehicle Brake Systems, 138, Tire Pressure Monitoring Systems, 139, New Pneumatic Radial Tires for Light Vehicles, 202, Head Restraints; Applicable at the Manufacturers Option until September 1, 2009, 203 (N.A.), Impact Protection for the Driver from the Steering Control System, 204, Steering Control Rearward Displacement, 205, Glazing Materials, 206, Door Locks and Door Retention Components, 207, Seating Systems, 209, Seat Belt Assemblies, 210, Seat Belt Assembly Anchorages, 212, Windshield Mounting, 213 (N.A.), Child Restraint Systems, 214, Side Impact Protection, 216, Roof Crush Resistance; Applicable unless a Vehicle is Certified to § 571.216a, 219, Windshield Zone Intrusion, 225 (N.A. convertible), Child Restraint Anchorage Systems, 302, Flammability of Interior Materials, and 401 (N.A.), Interior Trunk Release;

(ii) Do not conform to the following FMVSSs: FMVSS Nos.101, Controls and Displays,108, Lamps, Reflective Devices and Associated Equipment, 111, Rear Visibility, 201, Occupant Protection in Interior Impact, 208, Occupant Crash Protection, 301, Fuel System Integrity, 49 CFR part 565, Vehicle Identification Number (VIN) Requirements, 567, Certification, 575, Consumer Information, and 581, Bumper Standard.

(2) Originally manufactured for sale in Mexico;

(i) Conform to the following FMVSS: FMVSS Nos. 102, Transmission Shift Position Sequence, Starter Interlock, and Transmission Braking Effect, 103, Windshield Defrosting and Defogging Systems, 104, Windshield Wiping and Washing Systems, 106, Brake Hoses, 110, Tire Selection and Rims and Motor Home/Recreation Vehicle Trailer Load Carrying Capacity Information for Motor Vehicles with a GVWR of 4,536 Kilograms (10,000 pounds) or Less, 113, Hood Latch System, 114, Theft Protection and Rollaway Prevention, 116, Motor Vehicle Brake Fluids, 118, Power-Operated Window, Partition, and Roof Panel System, 124, Accelerator Control Systems, 126, Electronic Stability Control Systems, 135, Light Vehicle Brake Systems, 138, Tire Pressure Monitoring Systems, 139, New Pneumatic Radial Tires for Light Vehicles, 202, Head Restraints; Applicable at the Manufacturers Option until September 1, 2009, 203 (N.A.), Impact Protection for the Driver from the Steering Control System, 204, Steering Control Rearward Displacement, 205, Glazing Materials, 206, Door Locks and Door Retention Components, 207, Seating Systems, 209, Seat Belt Assemblies, 210, Seat Belt Assembly Anchorages, 212, Windshield Mounting, 213 (N.A.), Child Restraint Systems, 214, Side Impact Protection, 216, Roof Crush Resistance; Applicable unless a Vehicle is Certified to § 571.216a, 219, Windshield Zone Intrusion, 225 (N.A. convertible), Child Restraint Anchorage Systems, 301, Fuel system integrity, 302, Flammability of Interior Materials, Part 581, Bumper Standard, and 401 (N.A.), Interior trunk release.

(ii) Do not conform to the following FMVSS: FMVSS Nos. 101, Controls and Displays,108, Lamps, Reflective Devices and Associated Equipment, 111, Rear visibility, 201, Occupant protection in interior impact, 208, Occupant crash protection, 49 CFR part 565, Vehicle Identification Number (VIN) Requirements, 567, Certification, and 575, Consumer Information.

The petitioner contends that the non-U.S. certified MY 2015 Ferrari LaFerrari vehicles not-conforming to FMVSSs are capable of being readily modified to meet the following FMVSSs, in the manner indicated:

• FMVSS No. 101, Controls and Displays: Programming of the body electronic control unit, instrument cluster, and front gateway are required for both European and Mexican specifications to bring these systems into compliance with this FMVSS.

• FMVSS No. 108, Lamps, Reflective Devices and Associated Equipment:

The following modifications must be made to the European specification model, to fully meet this FMVSS: Install the wiring harness for the USA side marker lights which are standard but not working in the Ferrari LaFerrari. Programming is necessary to activate the USA lighting programs systems.

Headlight LH—302208, Headlight RH—302207, Taillamp RH—302620, Taillamp LH-302621, Front Side Marker lamp-217894, Rear Side Marker Lamp-191504, Nuts-16718011.

The sample vehicle, a MY 2015 Ferrari LaFerrari (VIN: ZFF76ZFL7F0xxxxxx), which is claimed to have been originally manufactured for sale in Mexico, was fitted with all U.S. specification exterior lights—302208/302207/302620/302621/217894/191504/16718011 and harness from the factory, and only requires programming of the side markers to bring it into compliance with this FMVSS.

• FMVSS No. 110, Tire Selection and Rims and Motor Home/Recreation Vehicle Trailer Load Carrying Capacity Information for Motor Vehicles with a GVWR of 4,536 Kilograms (10,000 pounds) or Less:

The European specification model requires the tire placard to be installed to meet this FMVSS. The tire/rim label is available to meet the new regulations. Tire Placard—308905.

The sample vehicle, a MY 2015 Ferrari LaFerrari (VIN: ZFF76ZFL7F0xxxxxx), which is claimed to have been originally manufactured for sale in Mexico, was fitted with Tire Placard—308905 from the factory, and therefore is already in compliance with this FMVSS.

• FMVSS No. 111, Rear Mirrors:

The European specification model drivers inside rearview mirror meets this FMVSS. However, the passenger's and drivers outside rearview mirrors must be changed to the U.S. companion model part to meet this FMVSS. Driver's Outside Rearview Mirror—86290300, Passenger's Outside Rearview Mirror—86290200.

The sample vehicle, a MY 2015 Ferrari LaFerrari (VIN: ZFF76ZFL7F0xxxxxx), which is claimed to have been originally manufactured for sale in Mexico, was fitted with the U.S. specification Driver's Inside and Outside Rearview Mirrors—86290300 from the factory, and only requires replacement of the Passenger's Rearview Mirror—86290200 to be brought into compliance with this FMVSS.

• FMVSS No. 201, Occupant Protection in Interior Impact:

The following parts need to be changed to bring the European specification model into compliance with this FMVSS: RH Sun Visor—86575500, LH Sun Visor—86575800, RH Windscreen Pillar Trim—86537600, LH Windscreen Pillar Trim—86537700, RH A-Pillar Trim—86537900, LH A-pillar Trim—86538100, Rear Bulkhead Trim—86485200 or Rear Bulkhead Trim—86485400.

The sample vehicle, a MY 2015 Ferrari LaFerrari (VIN: ZFF76ZFL7F0xxxxxx), which is claimed to have been originally manufactured for sale in Mexico, was fitted with the U.S. specification Sun Visors—8657550/86575800, Windscreen Pillar Trims—86537600/86537700, A-Pillar Trims—86537900/86538100, and Rear Bulkhead Trim—86485200 from the factory, and is already in compliance with this FMVSS.

• FMVSS No. 208, Occupant Crash Protection:

The following parts need to be changed to bring the European specification model into compliance with this FMVSS:

Passenger Airbag Warning Light—305351, Screw for this part—15958077

Airbag Control Unit—309385

Passenger Seat—865375

Body Harness—813836

Child Seat Restraint Latch—86404600, Screw for this part—83911900

Knee Guard—86484200, Screw for this part—64460500, Washer—12646621

Upper Block of Passenger's Footrest—86695500, Lower Block of Passenger's Footrest—86695400, Under Seat Mat—86421200

Underbody Water Return Pipe—310879, Underbody Water Delivery Pipe—310880

The sensor mat installed in the passenger side cushion needs to be replaced to meet the requirements for weight sensing system or advance airbags. After the components are installed and wired, connect diagnostic programming/coding tool to activate.

• SRS Airbag control module

• Check for programming update

• Initial start up

• ECU programming

After the process is complete the airbag control module will be able to communicate with all the sensors and airbags installed in the vehicle. All parts of these systems must be inspected to verify the U.S. part numbers on all belts and the control unit.

The sample vehicle, a MY 2015 Ferrari LaFerrari (VIN: ZFF76ZFL7F0xxxxxx), which is claimed to have been originally manufactured for sale in Mexico, was fitted with a Passenger Airbag Warning Light—305351, Airbag Control Unit—309385, Child Seat Restraint Latch—86404600, Knee Guard—86484200, Upper and Lower Blocks of Passenger's Footrest—86695500/86695400, Under Seat Mat—86421200, and Underbody Water Return and Delivery Pipes—310879/310880 from the factory.

The sample vehicle does require the Body Harness—813836, and Passenger Seat—865375 to be changed, along with programming to activate the system to bring it into compliance with this FMVSS.

• FMVSS No. 301, Fuel System Integrity:

Parts of these systems, which include the ORVR (Onboard Refueling Vapor Recovery) systems, must be modified on the European specification model to meet this FMVSS. Cap—219786, RH Air Filter Box—302631, LH Air Filter Box—302632, Air Filter—302595.

The sample vehicle, a MY 2015 Ferrari LaFerrari (VIN: ZFF76ZFL7F0xxxxxx), which is claimed to have been originally manufactured for sale in Mexico, was fitted with Cap—219786, RH Air Filter Box—302631, LH Air Filter Box—302632, and Air Filter—302595 from the factory, and therefore is already in compliance with this FMVSS.

• 49 CFR part 565 Vehicle Identification Number (VIN) Requirements and Part 567 Certification:

A VIN plate must be added to both European and Mexican specifications models near the left windshield post and a reference and certification label must be added in the left front door post area to meet these regulations.

• 49 CFR part 575 Consumer Information:

Owner's manual and all other information manuals must be replaced with the OEM Manuals for both the European and Mexican specification models. Owner's Manual—86075400, Quick Reference Guide—86076100.

• 49 CFR 581 Bumper Standard:

The European specification requires the front and rear bumpers to be modified or changed to meet this FMVSS. Front Bumper—86235610, Rear Bumper—86320810.

The sample vehicle, a MY 2015 Ferrari LaFerrari (VIN: ZFF76ZFL7F0xxxxxx), which is claimed to have been originally manufactured for sale in Mexico, was fitted with the U.S. Front Bumper—86235610 and Rear Bumper—86320810 from the factory and is already in compliance with this regulation.

(Authority: 49 U.S.C. 30141(a)(1)(A), (a)(1)(B), and (b)(1); 49 CFR 593.7; delegation of authority at 49 CFR 1.95 and 501.8.)

Otto G. Matheke III,
Director, Office of Vehicle Safety Compliance.

[FR Doc. 2025-13600 Filed 7-18-25; 8:45 am]

BILLING CODE 4910-59-P